POSTAL SERVICE

Privacy Act of 1974; System of Records

AGENCY: Postal Service ™.

ACTION: Notice of modification to existing systems of records.

SUMMARY: The United States Postal Service® is proposing to modify fifteen of its General and Customer Privacy Act Systems of Records. These modifications largely reflect the title and address changes and notification procedures resulting from an organizational re-design of the Postal Service. Also included are minor revisions to the category of records covered by the system and in the system.

DATES: The revision will become effective without further notice on July 27, 2012 unless comments received on or before that date result in a contrary determination.

ADDRESSES: Comments may be mailed or delivered to the Records Office, United States Postal Service, 475 L'Enfant Plaza SW., Room 9431, Washington, DC 20260-2201. Copies of all written comments will be available at this address for public inspection and photocopying between 8 a.m. and 4 p.m., Monday through Friday.

FOR FURTHER INFORMATION CONTACT: Jane Eyre, Manager, Records Office, 202-268-2608.

SUPPLEMENTARY INFORMATION: This notice is in accordance with the Privacy Act requirement that agencies publish their amended systems of records in the Federal Register when there is a revision, change, or addition. The Postal Service ™ has reviewed its systems of records and has determined that these fifteen General and Customer Privacy Act Systems of Records should be revised to modify system location, categories of individuals covered by the system, categories of records in the system, system manager(s) and address, and notification procedure.

I. Background

In 2011, the Postal Service began a significant management and organizational re-design. Many executive titles have been updated to reflect the new responsibilities of the leadership teams.

II. Rationale for Changes to USPS Privacy Act Systems of Records

Beginning in January, 2011, many managerial titles and responsibilities in the Postal Service have been revised to reflect changes in the structure of the organization. As a result, there is a continuing need to update the information concerning Privacy Act Systems of Records to reflect changes in the identity or title of responsible officials.

Also, it is necessary to remove outdated information pertaining to adding postage to postage meters.

III. Description of Changes to Systems of Records

The Postal Service is modifying the fifteen systems of records listed below. Pursuant to 5 U.S.C. 552a (e)(11), interested persons are invited to submit written data, views, or arguments on this proposal. A report of the proposed modifications has been sent to Congress and to the Office of Management and Budget for their evaluation. The Postal Service does not expect this amended notice to have any adverse effect on individual privacy rights. The list of affected systems is as follows:

USPS 100.500

SYSTEM NAME: Personnel Resource Management Records

USPS 300.000

SYSTEM NAME: Finance Records

USPS 400.000

SYSTEM NAME: Supplier and Tenant Records

USPS 500.000

SYSTEM NAME: Property Management Records

USPS 500.100

SYSTEM NAME: Carrier and Vehicle Operator Records

USPS 500.300

SYSTEM NAME: Emergency Management Records

USPS 800.100

SYSTEM NAME: Address Matching for Mail Processing

USPS 800.200

SYSTEM NAME: Address Element Correction Enhanced Service (AECES)

USPS 810.200

SYSTEM NAME: www.usps.com Ordering, Payment, and Fulfillment

USPS 820.100

SYSTEM NAME: Mailer Services—Applications and Approvals

USPS 820.200

SYSTEM NAME: Mail Management and Tracking Activity

USPS 830.000

SYSTEM NAME: Customer Service and Correspondence

USPS 840.000

SYSTEM NAME: Customer Mailing and Delivery Instructions

USPS 850.000

SYSTEM NAME: Auction Files

USPS 870.200

SYSTEM NAME: Postage Meter and PC Postage Customer Data and Transaction Records

Accordingly, for the reasons stated, the Postal Service proposes changes in existing systems of records as follows:

USPS 100.500

SYSTEM NAME:

Personnel Resource Management Records.

SYSTEM MANAGER(S) AND ADDRESS:

* * * * *

[CHANGE TO READ]

Vice President, Network Operations, United States Postal Service, 475 L'Enfant Plaza SW., Washington, DC 20260.

* * * * *

USPS 300.000

SYSTEM NAME:

Finance Records.

SYSTEM MANAGER(S) AND ADDRESS:

[CHANGE TO READ]

Vice President, Controller, United States Postal Service, 475 L'Enfant Plaza SW., Washington, DC 20260.

* * * * *

USPS 400.000

SYSTEM NAME:

Supplier and Tenant Records.

SYSTEM MANAGER(S) AND ADDRESS:

* * * * *

[CHANGE TO READ]

For real property owner and tenant records: Vice President, Facilities, United States Postal Service, 475 L'Enfant Plaza SW., Washington, DC 20260.

* * * * *

USPS 500.000

SYSTEM NAME:

Property Management Records.

SYSTEM MANAGER(S) AND ADDRESS:

[CHANGE TO READ]

For records of accountable property, carpool membership, and use of USPS parking facilities: Vice President, Facilities, United States Postal Service, 475 L'Enfant Plaza SW., Washington, DC 20260.

* * * * *

[CHANGE TO READ]

For other records of computer access authorizations: Chief Information Officer and Executive Vice President, United States Postal Service, 475 L'Enfant Plaza SW., Washington, DC 20260.

* * * * *

USPS 500.100

SYSTEM NAME:

Carrier and Vehicle Operator Records.

SYSTEM MANAGER(S) AND ADDRESS:

[CHANGE TO READ]

Vice President, Delivery and Post Office Operations, United States Postal Service, 475 L'Enfant Plaza SW., Washington, DC 20260.

* * * * *

USPS 500.300

SYSTEM NAME:

Emergency Management Records.

SYSTEM MANAGER(S) AND ADDRESS:

* * * * *

[CHANGE TO READ]

Vice President, Product Information, United States Postal Service, 475 L'Enfant Plaza SW., Washington, DC 20260.

[INSERT NEW TEXT]

Senior Director, Office of the Postmaster General and CEO, United States Postal Service, 475 L'Enfant Plaza SW., Washington, DC 20260.

* * * * *

USPS 800.100

SYSTEM NAME:

Address Matching for Mail Processing.

SYSTEM MANAGER(S) AND ADDRESS:

[CHANGE TO READ]

Vice President, Engineering Systems, United States Postal Service, 8403 Lee Highway, Merrifield, VA 22082.

* * * * *

NOTIFICATION PROCEDURE:

[CHANGE TO READ]

Customers waiting to know if information about them is kept in this system of records must address inquiries in writing to the Manager, Letter Mail Technology, 8403 Lee Highway, Merrifield, VA 22082.

* * * * *

USPS 800.200

SYSTEM NAME:

Address Element Correction Enhanced Service (AECES).

SYSTEM MANAGER(S) AND ADDRESS:

[CHANGE TO READ]

Vice President, Product Information, United States Postal Service, 475 L'Enfant Plaza SW., Washington, DC 20260.

Vice President, Delivery and Post Office Operations, United States Postal Service, 475 L'Enfant Plaza SW., Washington, DC 20260.

* * * * *

USPS 810.200

SYSTEM NAME:

www.usps.com Ordering, Payment, and Fulfillment.

SYSTEM MANAGER(S) AND ADDRESS:

* * * * *

[INSERT NEW TEXT]

Chief Financial Officer and Executive Vice President, United States Postal Service, 475 L'Enfant Plaza SW., Washington, DC 20260.

* * * * *

USPS 820.100

SYSTEM NAME:

Mailer Services—Applications and Approvals.

SYSTEM MANAGER(S) AND ADDRESS:

* * * * *

[INSERT NEW TEXT]

Vice President, Mail Entry and Payment Technology, United States Postal Service, 475 L'Enfant Plaza SW., Washington, DC 20260.

* * * * *

USPS 820.200

SYSTEM NAME:

Mail Management and Tracking Activity.

SYSTEM MANAGER(S) AND ADDRESS:

* * * * *

[INSERT NEW TEXT]

Vice President, Mail Entry and Payment Technology, United States Postal Service, 475 L'Enfant Plaza SW., Washington, DC 20260.

* * * * *

USPS 830.000

SYSTEM NAME:

Customer Service and Correspondence.

SYSTEM LOCATION:

[CHANGE TO READ]

USPS Consumer and Industry Affairs, Headquarters; Integrated Business Solutions Services Centers; the National Customer Support Center (NCSC); districts, Post Offices, contractor sites; and detached mailing units at customer sites.

CATAGORIES OF INDIVIDUALS COVERED BY THE SYSTEM:

[CHANGE TO READ]

This system contains records relating to customers who contact customer service by online and offline channels. This includes customers making inquiries via email, 1-800-ASK-USPS, other toll-free contact centers, or the Business Service Network (BSN), as well as customers with product-specific service or support issues.

SYSTEM MANAGER(S) AND ADDRESS:

[CHANGE TO READ]

Vice President, Consumer and Industry Affairs, United States Postal Service, 475 L'Enfant Plaza SW., Washington, DC 20260.

* * * * *

USPS 840.000

SYSTEM NAME:

Customer Mailing and Delivery Instructions.

CATEGORIES OF RECORDS IN THE SYSTEM

[CORRECT NUMBERING TO READ 1 THROUGH 3]

* * * * *

SYSTEM MANAGER(S) AND ADDRESS:

[CHANGE TO READ]

For SOA and pandering advertisement prohibitory orders: Vice President, Pricing, United States Postal Service, 475 L'Enfant Plaza SW., Washington, DC 20260.

For other delivery records: Vice President, Delivery and Post Office Operations, United States Postal Service, 475 L'Enfant Plaza SW., Washington, DC 20260.

* * * * *

USPS 850.000

SYSTEM NAME:

Auction Files.

SYSTEM LOCATION:

[CHANGE TO READ]

USPS Mail Recovery Center.

* * * * *

SYSTEM MANAGER(S) AND ADDRESS:

[CHANGE TO READ]

Vice President, Supply Management, United States Postal Service, 475 L'Enfant Plaza SW., Washington, DC 20260.

* * * * *

USPS 870.200

SYSTEM NAME:

Postage Meter and PC Postage Customer Data and Transaction Records.

CATEGORIES OF RECORDS IN THE SYSTEM:

[DELETE THE FOLLOWING TEXT]

3. Transactional information: Post Office where mail is entered; type (credit card, ACH, check, etc.), amount, and date of postage purchases; ascending and descending register values; amount of unused postage refunded; contact telephone number; package identification code, Customized Postage image data; declared value of contents and cost of insurance for insured packages; destination five-digit ZIP Code, date, and rate category of each indicium created; and transaction documents.

4. Financial information: Credit and/or debit card number, type, expiration date, and transaction number; check and electronic fund transfer information; ACH information.

NOTIFICATION PROCEDURE:

[CHANGE TO READ]

Customers wanting to know if information about them is maintained in this system of records must address inquires in writing to: Manager, Payment Technology, United States Postal Service, 475 L'Enfant Plaza SW., Washington, DC 20260.

* * * * *

Stanley F. Mires,
Attorney, Legal Policy & Legislative Advice.

[FR Doc. 2012-15606 Filed 6-26-12; 8:45 am]

BILLING CODE 7710-12-P